DEPARTMENT OF DEFENSE

Office of the Secretary

[Transmittal Nos. 13-29]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-29 with attached transmittal, policy justification, and Sensitivity of Technology.

Dated: January 30, 2014.
Aaron Siegel,
Alternate OSD Federal Register Liaison Officer, Department of Defense.

Transmittal No. 13-29

Notice of Proposed Issuance of Letter of Offer Pursuant to Section 36(b)(1) of the Arms Export Control Act, as amended

(i) Prospective Purchaser: Iraq

(ii) Total Estimated Value:

Major Defense Equipment | $ .095 billion
Other | $1.275 billion
TOTAL | $1.370 billion

(iii) Description and Quantity or Quantities of Articles or Services under Consideration for Purchase: 8 AN/AAR-57 Common Missile Warning System, 3 T-700-GE-701D engines, 3 AN/ASQ-170 Modernized Target Acquisition and Designation Sight (MTADS), 3 AN/AAQ-11 Modernized Pilot Night Vision Sensors (PNVS), 152 AGM-114 K-A HELLFIRE Missiles, 14 HELLFIRE M299 Launchers, 6 AN/APR-39A(V)4 Radar Warning Systems with training Universal Data Modems (UDM), 2 Embedded Global Positioning System Inertial Navigation System (EGI), 6 AN/AVR-2A/B Laser Warning Detectors, 12 M261 2.75 inch Rocket Launchers, M206 Infrared Countermeasure flares, M211 and M212 Advanced Infrared Countermeasure Munitions (AIRCM) flares, Internal Auxiliary Fuel Systems (IAFS), Aviator's Night Vision Goggles, Aviation Mission Planning System, training ammunition, helmets, transportation, spare and repair parts, support equipment, publications and technical data, personnel training and training equipment, site surveys, U.S. Government and contractor technical assistance, and other related elements of program and logistics support.

(iv) Military Department: U.S. Army (UAK)

(v) Prior Related Cases, if any: None

(vi) Sales Commission, Fee, etc., Paid, Offered, or Agreed to be Paid: None

(vii) Sensitivity of Technology Contained in the Defense Article or Defense Services Proposed to be Sold: See Annex attached

(viii) Date Report Delivered to Congress: 27 January 2014

* As defined in Section 47(6) of the Arms Export Control Act.

POLICY JUSTIFICATION

Iraq—Support for APACHE Lease

The Government of Iraq has requested a possible sale of 8 AN/AAR-57 Common Missile Warning System, 3 T-700-GE-701D engines, 3 AN/ASQ-170 Modernized Target Acquisition and Designation Sight (MTADS), 3 AN/AAQ-11 Modernized Pilot Night Vision Sensors (PNVS), 152 AGM-114 K-A HELLFIRE Missiles, 14 HELLFIRE M299 Launchers, 6 AN/APR-39A(V)4 Radar Warning Systems with training Universal Data Modems (UDM), 2 Embedded Global Positioning System Inertial Navigation System (EGI), 6 AN/AVR-2A/B Laser Warning Detectors, 12 M261 2.75 inch Rocket Launchers, M206 Infrared Countermeasure flares, M211 and M212 Advanced Infrared Countermeasure Munitions (AIRCM) flares, Internal Auxiliary Fuel Systems (IAFS), Aviator's Night Vision Goggles, Aviation Mission Planning System, training ammunition, helmets, transportation, spare and repair parts, support equipment, publications and technical data, personnel training and training equipment, site surveys, U.S. Government and contractor technical assistance, and other related elements of program and logistics support. The estimated cost is $1.37 billion.

The proposed sale will contribute to the foreign policy and national security of the United States by helping to improve the security of a strategic partner. This proposed sale directly supports the Iraq government and serves the interests of the Iraqi people and the United States.

The proposed sale supports the strategic interests of the United States by providing Iraq with a critical capability to protect itself from terrorist and conventional threats. This will allow Iraqi Security Forces to begin training on the operation and maintenance of six leased U.S. APACHE helicopters in preparation of their receipt of new-build aircraft.

This proposed sale of this equipment and support will not alter the basic military balance in the region.

The principal contractors will be The Boeing Company in Mesa, Arizona, Lockheed Martin Corporation in Orlando, Florida, General Electric Company in Cincinnati, Ohio, and Robertson Fuel Systems, LLC, Tempe, Arizona. There are no known offset agreements proposed in connection with this potential sale.

Implementation of this proposed sale will require the assignment of 1 U.S. Government and 67 contractor representatives to travel to Iraq on an as-needed basis provide support and technical reviews.

There will be no adverse impact on U.S. defense readiness as a result of this proposed sale.

Transmittal No. 13-29

Notice of Proposed Issuance of Letter of Offer Pursuant to Section 36(b)(1) of the Arms Export Control Act

Annex

Item No. vii

(vii) Sensitivity of Technology:

1. The AH-64E APACHE Attack Helicopter weapon system contains communications and target identification equipment, navigation equipment, aircraft survivability equipment, displays, and sensors. The airframe itself does not contain sensitive technology; however, the pertinent equipment listed below will be either installed on the aircraft or included in the lease:

a. The AN/ASQ-170 Modernized Target Acquisition and Designation Sight/AN/AAQ-11 Modernized Pilot Night Vision Sensor (MTADS/MPNVS) provides day, night, limited adverse weather target information, as well as night navigation capabilities. The MPNVS provides thermal imaging that permits nap-of-the-earth flight to, from, and within the battle area, while MTADS provides the co-pilot gunner with search, detection, recognition, and designation by means of television and Forward Looking Infrared (FLIR) sighting systems that may be used singularly or in combinations. Hardware is Unclassified. Technical manuals for authorized maintenance levels are Unclassified.

b. The AAR-57(V)7 Common Missile Warning System (CMWS) detects energy emitted by threat missile in-flight, evaluates potential false alarm emitters in the environment, declares validity of threat and selects appropriate counter-measures. The CMWS consists of an Electronic Control Unit (ECU), Electro-Optic Missile Sensors (EOMSs), and Sequencer and Improved Countermeasures Dispenser (ICMD). The ECU hardware is classified Confidential; releasable technical manuals for operation and maintenance are classified Secret.

c. The AN/APR-39A(V)4/APR-39C(V)2 Radar Signal Detecting Set is a system, that provides warning of a radar directed air defense threat and allow appropriate countermeasures. This is the 1553 databus compatible configuration. The hardware is classified Confidential when programmed with U.S. threat data; releasable technical manuals for operation and maintenance are classified Confidential; releasable technical data (technical performance) is classified Secret.

d. The AN/AVR-2B Laser Detecting Set is a passive laser warning system that receives, processes and displays threat information resulting from aircraft illumination by lasers on the multi-functional display. The hardware is classified Confidential; releasable technical manuals for operation and maintenance are classified Secret.

e. The Embedded Global Positioning Systems Inertial Navigation (EGI) is an export controlled device containing a GEM III/IV GPS Receiver card with a Precise Positioning Service-Security Module (PPS-SM).

f. The highest level for release of the AGM-114 K-A HELLFIRE missile is Secret, based upon the software. This missile variant adds a blast fragmentation sleeve to the HEAT warhead's anti-tank capability, giving it added versatility against unarmored targets in the open. The highest level of classified information that could be disclosed by a proposed lease or by testing of the end item is Secret; the highest level that must be disclosed for production, maintenance, or training is Confidential. Reverse engineering could reveal Confidential information. Vulnerability data, countermeasures, vulnerability/susceptibility analyses, and threat definitions are classified Secret or Confidential.

2. If a technologically advanced adversary were to obtain knowledge of the specific hardware and software elements, the information could be used to develop countermeasures which might reduce weapon system effectiveness or be used in the development of a system with similar or advanced capabilities.

[FR Doc. 2014-02266 Filed 2-3-14; 8:45 am]

BILLING CODE 5001-06-P